DEPARTMENT OF HEALTH AND HUMAN SERVICES

Food and Drug Administration

[Docket No. FDA-2012-N-0001]

Requirements for Importing Food and Drug Administration Regulated Products Into the United States

AGENCY: Food and Drug Administration, HHS.

ACTION: Notice of meeting.

SUMMARY: The Food and Drug Administration (FDA) is announcing the following meeting: “Requirements for Importing Food and Drug Administration Regulated Products Into the United States.” The topics to be discussed are FDA regulations with respect to importing pharmaceutical products, medical devices, food products, as well as technology which applies to brokers and forwarders.

Date and Time: The meeting will be held on July 18, 2012, from 8:30 a.m. to 5 p.m. in Des Plaines, IL.

Location: The meeting will be held at the Illinois Department of Transportation Building, 9511 West Harrison St., Des Plaines, IL, 60016.

Contact: Lisa Misevicz, Food and Drug Administration, 550 West Jackson Blvd., suite 1500, Chicago, IL 60661; 312-596-4217; email: lisa.misevicz@fda.hhs.gov.

Registration: Send registration information (including name, title, firm name, address, telephone, and fax number) to the contact person by July 2, 2012.

If you need special accommodations due to a disability, please contact Lisa Misevicz at least 7 days in advance.

Dated: May 17, 2012.
Leslie Kux,
Assistant Commissioner for Policy.

[FR Doc. 2012-12592 Filed 5-23-12; 8:45 am]

BILLING CODE 4160-01-P